DEPARTMENT OF THE INTERIOR

Fish and Wildlife Service

50 CFR Part 17

Endangered and Threatened Wildlife and Plants; Annual Notice of Findings on Recycled Petitions

AGENCY: Fish and Wildlife Service, Interior.

ACTION: Notice of review.

SUMMARY: In this notice of review, we announce our recycled petition findings, as required in section 4(b)(3)(C)(i) of the Endangered Species Act of 1972, as amended. When, in response to a petition, we complete a 12-month finding that listing a species is warranted but precluded, we must make a new 12-month finding each year until we publish a proposed rule or make a determination that listing is not warranted. These subsequent 12-month findings are referred to as recycled petition findings.

Information contained in this notice of review is based on our review of the current status and threats to taxa that were the subjects of 27 outstanding warranted but precluded findings. Based on our review, we find that 26 species continue to warrant listing or changes in classification, but these activities are precluded by listing activities of higher priority as determined by our listing priority guidance. One species no longer warrants listing under the Endangered Species Act and, therefore, has been removed from the candidate list.

We announce the availability of listing priority assignment forms for candidate taxa and listing priority determinations for proposed taxa. These documents describe the status and threats that we evaluated in order to assign a listing priority number to each taxon.

We request additional status information that may be available for these candidates as well as information on taxa that we should include as candidates in future updates of this list. We will consider this information in preparing listing documents and future recycled petition findings. This information will help us in monitoring changes in the status of candidate taxa and in conserving these taxa.

DATES: We will accept comments on these recycled petition findings at any time.

ADDRESSES: Submit your comments regarding a particular taxon to the Regional Director of the Region identified as having the lead responsibility for that taxon. You may submit comments of a more general nature to the Chief, Office of Conservation and Classification, Division of Endangered Species, U.S. Fish and Wildlife Service, 4401 N. Fairfax Drive, Room 420, Arlington, Virginia 22203 (703/358-2171). Written comments and materials received in response to this notice will be available for public inspection by appointment at the appropriate Regional Office listed below.

Information regarding the range, status, and habitat needs of and listing priority assignment for a particular taxon is available for review at the appropriate Regional Office listed below or at the Division of Endangered Species, address listed above.

Region 1. California, Hawaii, Idaho, Nevada, Oregon, Washington, American Samoa, Guam, and the Commonwealth of the Northern Mariana Islands.

Regional Director (TE), U.S. Fish and Wildlife Service, Eastside Federal Complex, 911 N.E. 11th Avenue, Portland, Oregon 97232-4181 (503/231-6158).

Region 2. Arizona, New Mexico, Oklahoma, and Texas.

Regional Director (TE), U.S. Fish and Wildlife Service, 500 Gold Avenue S.W., Room 4012, P.O. Box 1306, Albuquerque, New Mexico 87102 (505/248-6920).

Region 6. Colorado, Kansas, Montana, Nebraska, North Dakota, South Dakota, Utah, and Wyoming.

Regional Director (TE), U.S. Fish and Wildlife Service, P.O. Box 25486, Denver Federal Center, Denver, Colorado 80225-0486 (303/236-7400).

FOR FURTHER INFORMATION CONTACT: The Endangered Species Coordinator(s) in the appropriate Regional Office(s) or Nancy Gloman, Chief, Office of Conservation and Classification (703/358-2171).

SUPPLEMENTARY INFORMATION:

Recycled Petition Findings

Background

The Endangered Species Act of 1973, as amended (Act) (16 U.S.C. 1531 et seq.), provides two mechanisms for considering species for listing. First, the Act places on the Service the duty to identify and propose for listing those species which the Service finds require listing under the standards of section 4(a)(1). We implement this duty through the candidate assessment program. Candidate taxa are those taxa for which we have on file sufficient information on biological vulnerability and threats to support issuance of a proposed rule to list, but issuance of the proposed rule is precluded by other higher priority listing actions. Second, the Act allows the public to petition us to add a species to the Threatened and Endangered Species List. Under section 4(b)(3)(A), when we receive such a petition, we must determine within 90 days, to the maximum extent practicable, whether the petition presents substantial information that listing is warranted (a “90-day finding”). If we make a positive 90-day finding, under section 4(b)(3)(B) we must make one of three possible findings within 12 months of the receipt of the petition (a “12-month finding”).

The first possible 12-month finding is that listing is not warranted, in which case we need take no further action on the petition. Second, we may find that listing is warranted, in which case we must promptly publish a proposed rule to list the species. Once we publish a proposed rule for a species, section 4(b)(5) and (6) govern further procedures, regardless of whether or not we issued the proposal in response to a petition. Third, we may find that listing is “warranted but precluded.” Such a finding means that immediate publication of a proposed rule to list the species is precluded by higher priority listing proposals, and that we are making expeditious progress to add and remove species from the Lists, as appropriate.

The standard for making a 12-month warranted but precluded finding on a petition to list a species is identical to our standard for making a species a candidate for listing. Therefore, we add all petitioned species subject to such a finding to the candidate list. Pursuant to our Petition Management Guidance, made available on July 9, 1996 (61 FR 36075), we consider a petition to list a species already on the candidate list to be a second petition and, therefore, redundant. We do not interpret the petition provisions of the Act to require us to make a duplicative finding; therefore, we will not make additional 90-day findings or initial 12-month findings on petitions to list candidate species. Any petition regarding which we have made a warranted but precluded finding is subject to section 4(b)(3)(C)(i), which requires us to make a new 12-month finding on the petition within 12-months of our determination that the petition action was warranted but precluded. These required annual findings on warranted but precluded listing actions are referred to as recycled petition findings. This notice constitutes publication of our recycled petition findings for all species on the candidate list that are currently the subject of an outstanding petition. This notice also constitutes publication of recycled petition findings for species subject to a petition to reclassify an already-listed species from threatened or endangered.

Previous Notices of Review

The Act directed the Secretary of the Smithsonian Institution to prepare a report on endangered and threatened plant taxa, which was published as House Document No. 94-51. We published a notice in the Federal Register on July 1, 1975 (40 FR 27823), in which we announced that we would review more than 3,000 native plant taxa named in the Smithsonian's report and other taxa added by the 1975 notice for possible addition to the List of Endangered and Threatened Plants. A new comprehensive notice of review for native plants, that took into account the earlier Smithsonian report and other accumulated information, superseded the 1975 notice on December 15, 1980 (45 FR 82479). On November 28, 1983 (48 FR 53640), a supplemental plant notice of review noted changes in the status of various taxa. We published complete updates of the plant notice on September 27, 1985 (50 FR 39526), February 21, 1990 (55 FR 6184), September 30, 1993 (58 FR 51144), and, as part of combined animal and plant notices, on February 28, 1996 (61 FR 7596), September 19, 1997 (62 FR 49398), and October 25, 1999 (64 FR 57534).

We published earlier comprehensive reviews for vertebrate animals in the Federal Register on December 30, 1982 (47 FR 58454), and on September 18, 1985 (50 FR 37958). We published an initial comprehensive review for invertebrate animals on May 22, 1984 (49 FR 21664). We published a combined animal notice of review on January 6, 1989 (54 FR 554), and with minor corrections on August 10, 1989 (54 FR 32833). We again published comprehensive animal notices on November 21, 1991 (56 FR 58804), November 15, 1994 (59 FR 58982), and, as part of combined animal and plant notices, on February 28, 1996 (61 FR 7596), and September 19, 1997 (62 FR 49398). On October 25, 1999 (64 FR 57534), we published our most recent combined candidate notice of review.

This notice is our recycled finding for the taxa that were the subjects of 27 outstanding warranted but precluded findings (21 findings for listing, 1 for withdrawal, and 5 species for reclassification). We also provide notice of revised listing priority numbers and of removal of one species from candidate status. We emphasize that we are not proposing these candidates for listing by this notice, but we anticipate developing and publishing proposed listing rules for these taxa in the future. We encourage State agencies, other Federal agencies, and other parties to give consideration to these taxa in environmental planning. We intend to publish a new combined candidate notice of review that contains all candidate species in March 2001.

Findings on Recycled Petitions

Pursuant to section 4(b)(3)(C)(i), when, in response to a petition, we find that listing a species is warranted but precluded, we must make a new 12-month finding each year until we publish a proposed rule or make a determination that listing is not warranted. These subsequent 12-month findings are referred to as recycled petition findings.

We reviewed the current status and threats to the taxa that were the subjects of the 27 outstanding warranted but precluded findings (22 finding for listing and 5 species for reclassification). As a result of this review, we have made continued warranted but precluded findings for 26 species (21 petitioned for listing and 5 for reclassification) and a not warranted finding for 1 candidate. Below we provide additional information on status changes we have made as a result of our review conducted from October 25, 1999, to date. See Table 1 for a summary of the candidate information. Listing priority assignment form and listing priority determinations for proposed taxon are available by request (see Addresses). These documents describe the status and threats that we evaluated in order to assign priority number to each taxon.

Taxa in Table 1 of this notice are assigned to two status categories, noted in the “Category” column at the left side of the table. We identify the taxa for which we have made a continued “warranted but precluded” finding on a recycled petition by the code “C” in the category column. The “C” in this column indicates taxa that are candidates for listing. We identify the one species removed from candidate status with the word “removed” in the category column. Candidates are taxa for which we have on file sufficient information on biological vulnerability and threats to support proposals to list them as endangered or threatened. Issuance of proposed rules for these taxa is precluded at present by other higher priority listing actions. We anticipate developing and publishing proposed rules for candidate taxa in the future.

The column labeled “Priority” indicates the listing priority number for candidate taxa. We assign this number based on the immediacy and magnitude of threats as well as on taxonomic status. We published a complete description of our listing priority system in a September 21, 1983, Federal Register notice (48 FR 43098). We have revised the listing priority numbers for three species, identified by asterisks in this column, as discussed below.

The third column identifies the Regional Office to which you should direct comments or questions (see ADDRESSES section). We will consider all information provided in response to this notice of review in deciding whether to propose taxa for listing and when to undertake necessary listing actions. Comments received will become part of the administrative record for the taxa.

Following the scientific name of each taxon (fourth column) is the family designation (fifth column) and the common name, if one exists (sixth column). The seventh column provides the known historical range for the taxon, indicated by postal code abbreviations for States and U.S. territories (many taxa no longer occur in all of the areas listed).

Changes in Listing Priority

Washington ground squirrel (Spermophilus washingtoni)

Since the October 25, 1999, publication of the Candidate Notice of Review we have received additional information on the overall decline of the Washington ground squirrel throughout its range and the increased magnitude and permanence of threat that agricultural conversion poses to its continued existence. Based on this information we have changed the listing priority number from 5 (a species with high magnitude, non-imminent threats) to 2 (a species with high magnitude, imminent threats).

Betts (1990, 1999) documented the curtailment in the range of the Washington ground squirrel to three disjunct areas. His surveys on historic and documented occurrences focused on the perimeters of the range with the intent of evaluating reductions in numbers of colonies and the size of the current range. Although Betts' surveys do not provide an exhaustive survey of all potential squirrel locations or numbers of individuals, they do provide a good estimate of the distribution and decline of Washington ground squirrels in Oregon and Washington. Betts found that the species had disappeared from 73.8 percent of the sites in Washington and 76.9 percent of the sites in Oregon. In addition, Betts (1990) subjectively evaluated the vulnerability to extinction of each of the remaining known colonies based on colony size, isolation, land ownership, and threat from human activity.

In 1990, Betts predicted that approximately 29 percent of all colonies were highly vulnerable to extinction (19 percent in Oregon, 35 percent in Washington); 31 percent were moderately vulnerable (39 percent in Oregon, 25 percent in Washington); and 40 percent had low vulnerability (42 percent in Oregon, 39 percent in Washington). Since this prediction follow up monitoring has shown that Betts' predictions proved correct, and many colonies classified as highly vulnerable were no longer present by 1999 (Betts 1999).

In addition to new information regarding population declines, recent reports indicate that agricultural conversion permanently eliminates Washington ground squirrel habitat and use. Prior to this new information it was thought that areas could again be recolonized. However, because the squirrel is so closely tied to deep, silty soils, specifically Warden soils on the Boeing Tract (Greene 1999), the tilling and other mechanisms involved in conversion of shrub-steppe habitats to agricultural crop production not only destroys the species' food source, but it also renders the soils necessary for burrowing unuseable and irretrievably modified. Washington ground squirrels are not found in tilled croplands (Carlson et al. 1980; Betts 1990, 1999; Quade 1994), nor have they been located in undeveloped areas between irrigated crops (CH2M Hill 2000). As a result of these studies it is clear that once areas have been modified they are no longer able to support Washington ground squirrels not only in the present but in the future as well, thus increasing the magnitude of these threats. In additional there is currently proposed development for areas which currently support the highest known concentration of Washington ground squirrels (Greene 1999), this proposed development increases the immediacy of the threats. Great Basin population of the Columbia spotted frog (Rana luteiventris),

We have changed the listing priority number from 9 (a population with moderate magnitude, imminent threats) to 3 (a population with high magnitude, imminent, threats). This is based on a decrease in survival of newly hatched and adult frogs and an increase in the magnitude of the threats to the Great Basin population of the Columbia spotted frogs from introduction of non-native fishes, grazing, and lack of regulatory mechanisms.

Columbia spotted frogs in Idaho have shown significant declines in the last years through reductions in both newly hatched and adult survival. At the largest known site in Idaho, frog numbers have shown a significant decline, although eggs masses were identified there was little or no survival of these eggs to tadpoles or adult. One other known population appears to be extirpated due to the loss of beaver activity, with only one male frog observed in 1999. Monitoring at another site that has been protected from grazing (although the spring and source of water has been developed for off-site water access by livestock), has had no documented recruitment in the last three years (all frogs have been pit-tagged at this site) and may disappear as the existing breeding females age.

The introduction of non-native salmonid and bass species for recreational fishing may have negatively affected frog species throughout the United States. The negative effects of predation of this kind are difficult to document, particularly in open stream systems. However, significant negative effects of predation on frog populations in lake systems have been documented through research (Hayes and Jennings 1986, Pilliod et al. 1996). The stocking of non-native fishes is common throughout the waters of the Great Basin. Given the recent declines of frog populations and continued stocking of non-native fishes, we believe the magnitude of this threat has increased.

Grazing has also been identified as a threat because it removes vegetative cover and shrubs eliminating shelter necessary for frogs to avoid predators and UV-B radiation; in addition, cattle tramping on the banks and within the water can cause changes in water temperature and water chemistry, causing a reduction in prey availability. Development of springs to provide water for grazing has resulted in loss of surface water, reduced areas occupied during the winter by dormant spotted frogs, and result in loss of continuous surface flows between foraging and wintering sites.

There are large areas in the northeastern part of Nevada and southeastern Oregon where there has been little to no monitoring or surveying of occupied sites, and no actions have been taken yet to protect populations or restore habitats in that region. Even in Idaho, where the status of populations are better known, neither the Bureau of Land Management, on which some of the known populations are found, nor the State of Idaho have implemented conservation measures to control grazing within wetlands/riparian habitats, stocking of non-native fish, or the development of springs in a manner consistent with Columbia spotted frog conservation. The lack of effective conservation actions, coupled with the recent declines, has resulted in an increase in the magnitude and immediacy of the threat since our last evaluation.

We also are correcting the historical range for the Great basin population of the Columbia spotted frog. In the October 25, 1999, Federal Register it was erroneously published as U.S.A. (AK, CA, ID, MT, NV, OR, UT, WA, WY), Canada. The correct historical range should read U.S.A. (NV, ID, OR); this has been changed in Table 1 of this notice.

Oregon spotted frog (Rana pretiosa)

The listing priority number was erroneously published as 6 in the 1999 CNOR. The listing priority number was changed from 6 (a subspecies with moderate magnitude, imminent threats) to 2 (a full species, with high magnitude, imminent threats) in the 1997 CNOR when the Oregon spotted frog received full species recognition, and should have been continued as 2 in the 1999 CNOR.

Threats are considered imminent because the remaining populations have experienced high mortality rates in recent years and the remaining populations are isolated from each other and face multiple threats. It has unique egg-laying habits that make egg masses susceptible to freezing and drought; two to three years of drought could eliminate a population. Communal egg laying at traditional sites makes the Oregon spotted frog especially vulnerable to habitat loss. The best documented population, at Conboy Lake National Wildlife Refuge, experienced a 22.6 percent decline in egg mass counts from 1998 to 1999.

At the time of the original petition in 1989 to list the spotted frog we used Thompson's (1913) description of two subspecies, Rana pretiosa pretiosa and Rana pretiosa luteiventris, as our classification. However, this subspecific classification was no longer recognized at the time of the initial warranted but precluded 12-month finding in 1993, when we identified 5 distinct vertebrate populations of the spotted frog. This differentiation was based on geographic and climatic separation, and supported by genetic information. The confusing taxonomy resulting from reliance on morphological differences is being clarified using recently developed biochemical techniques for genetic analyses. Green (1986) used an analysis of proteins to determine that Rana pretiosa was a complex of at least 2 species (Green 1986, Green et al. 1996). Further protein and statistical analyses of 20 morphological measurements provided additional information to help define the ranges of these 2 species (Green et al. 1997), now known as the Oregon spotted frog and the Columbia spotted frog.

Finding on Candidate Removals

Swift Fox (Vulpes velox)

In 1994, the Swift Fox Conservation Team (SFCT) was formed by the 10 States within the historic range of the swift fox, Canada, and several Federal agencies, including the Service. This team has drafted the Swift Fox Conservation Assessment and Conservation Strategy (CACS)(Kahn et al. 1997), and produced five annual reports (Allen et al. 1995, Giddings 1997, Luce and Lindzey 1996, Roy 1998, Schmitt 2000) which have provided additional information regarding the distribution and abundance of the species. Swift fox distribution is more widespread than we originally concluded in our initial warranted but precluded 12-month finding in 1995. The species occurs in 9 of the 10 States within the historic range, and in approximately 40 percent of its historic range. Evaluations conducted by the SFCT have demonstrated nearly continuous distribution of swift fox populations from Wyoming south throughout eastern Colorado, western Kansas, the Oklahoma Panhandle, eastern New Mexico, and in two or three counties in the extreme northern panhandle of Texas. Scattered populations can also be found in Montana, South Dakota, and Nebraska.

The swift fox also appears to be more general in its habitat requirements than we concluded in the initial 12-month finding published June 16, 1995 (60 FR 31663). Information gathered by the SFCT in Kansas and Colorado demonstrates that the swift fox has been able to adapt to a mixed prairie-agricultural landscape.

Adaptability to various habitat types was further demonstrated in Wyoming where the swift fox was found to occupy sagebrush-grassland and sagebrush-greasewood habitat types with topography ranging from flat to badland-like terrain. Other habitat types used by swift fox included the sandhills of Nebraska and pinon-juniper habitat in Colorado and Oklahoma (Hoagland, Swift Fox Conservation Team Chair, in litt. 2000). Historic and recent data indicate that the swift fox can be regionally adaptable in its food preferences and is not dependent upon prairie dog communities to provide forage across most of its current range (Allen et al. 1995, Giddings 1997, Luce and Lindzey 1996, Roy 1998, Schmitt 2000).

As a result of new information, originally identified threats are no longer applicable for the following reasons: (1) The swift fox is more abundant and widely distributed than previously thought, and (2) the species is more flexible in its habitat requirements than originally believed.

The Service's 1995 12-month Finding concluded that most remaining swift fox populations occurred in marginally viable populations in scattered, isolated pockets of remnant short and mid-grass prairie habitat. Moreover, we concluded that most remaining grassland in the western Great Plains consisted of a mixed cropland/grassland mosaic which did not favor swift fox use. However, extensive rangelands still exist as predominately grassland environments in the swift fox's historic range and although some conversion to agriculture use is still occurring, it is at a much lower rate than in previous years. Additionally, recent studies indicate that the swift fox is more flexible than we previously determined in its habitat requirements and can utilize areas with mixed land uses (Allen et al. 1995, Giddings 1997, Luce and Lindzey 1996, Roy 1998, Schmitt 2000).

In the original finding we believe that commercial trapping of furbearers within the range of the swift fox may have been a threat. However, available information suggests that this harvest has not limited swift fox populations. We have also found no indication that parasites or diseases are significant factors in the population dynamics of wild foxes. In the 12-month finding, we cited a lack of regulatory mechanisms to protect the swift fox. Since then, 10 State wildlife agencies within the historic range of the swift fox have committed significant resources towards the conservation of the species with the development of the CACS (Kahn et al. 1997). The primary objectives of the CACS have largely been completed with the organization of the SFCT, the acquisition of State and Federal funding, the generation of annual reports, and the determination of current distribution of the swift fox.

Based on our reexamination of these threats, and pursuant to our analysis of the five factors under section 4(a)(1), we find that the swift fox is not likely to become in danger of extinction throughout all or a significant portion of its range in the foreseeable future. Therefore, we find that the petitioned action is not warranted and are removing the swift fox from the candidate list.

Findings on Reclassification From Threatened to Endangered

We have also previously made warranted but precluded findings for petitions that sought to reclassify species status listed as threatened to endangered. Because these species are already listed, they are not candidates for listing, and so are not included in Table 1. However, this notice also constitutes the recycled petition findings for these species. We find that reclassification from threatened to endangered status is currently warranted but precluded for:

(1) North Cascades Ecosystem grizzly bear (Ursus arctos horribilis) population (Region 6);

(2) Cabinet-Yaak grizzly bear populations (Region 6);

(3) Selkirk grizzly bear populations (Region 6);

(4) spikedace (Meda fulgida) (Region 2); and

(5) loach minnow (Tiaroga cobitis) (Region 2).

Progress in Revising the Lists

As described in section 4(b)(3)(B)(iii) of the Act, in order for us to make a “warranted but precluded” finding on a petitioned action, we must be making expeditious progress to add qualified taxa to the Lists of Endangered and Threatened Wildlife and Plants and to remove from the list taxa for which the protections of the Act are no longer necessary.

We are making expeditions progress in listing and delisting taxa during fiscal year 2000 (October 1, 1999, to October 1, 2000) as represented by our publication in the Federal Register of emergency rules for 1 taxa, final listing actions for 38 species, proposed listing actions for 18 species, final delisting actions for 1 species, proposed delisting actions for 1 species, withdrawals of proposed rules for 1 species, final designation of critical habitat for 5 species, proposed designation of critical habitat for 17 species, 12-month petition finding for 7 species, and 90-day petition findings for 15 species.

Request for Information

We request you submit any further information on the taxa named in this notice as soon as possible or whenever it becomes available. Additionally, we invite any further comment or information on any candidate taxa mentioned in the October 25, 1999, Candidate Notice or Review or found on the Fish and Wildlife Service website. We especially seek information:

(1) indicating that we should remove a taxon from candidate or proposed status;

(2) indicating that we should add a taxon to the list of candidate taxa;

(3) recommending areas that we should designate as critical habitat for a taxon, or indicating that designation of critical habitat would not be prudent for a taxon;

(4) documenting threats to any of the included taxa;

(5) describing the immediacy or magnitude of threats facing candidate taxa;

(6) pointing out taxonomic or nomenclatural changes for any of the taxa;

(7) suggesting appropriate common names; or

(8) noting any mistakes, such as errors in the indicated historical ranges.

References Cited

Allen, S.H., J.W. Hoagland, and E.D. Stukel. 1995. Report of the Swift Fox Conservation Team.

Betts, B.J. 1990. Geographic distribution and habitat preferences of Washington ground squirrels (Spermophilus washingtoni). Northwestern Naturalist 71:27-37.

Betts, B.J. 1999. Current status of Washington ground squirrels in Oregon and Washington. Northwestern Naturalist 80:35-38.

Carlson L., G. Geupel, J. Kjelmyr, J. Maciver, M. Morton, and N. Shishido. 1980. Geographical range, habitat requirements, and a preliminary population study of Spermophilus washingtoni. Final Technical Report, National Science Foundation Student-originated Studies Program. 24 pp.

CH2M Hill. 2000. Washington ground squirrel survey, April 12 and 13, 2000: Beef Northwest, Boeing Boardman Tract, Morrow County, Oregon. Field Report to Beef Northwest. 8 pp.

Giddings, B. 1997. Swift Fox Conservation Team Annual Report.

Green, D. M. 1986. Systematics and evolution of western North American frogs allied to Rana aurora and Rana boylii: electrophoretic evidence. Systematic Zoology 35:283-296.

Green, D. M., T.F. Sharbel, J. Kearsley, and H. Kaiser. 1996. Postglacial range fluctuation, genetic subdivision, and speciation in the western North American spotted frog complex, Rana pretiosa. Evolution 50:374-390.

Green, D. M., H. Kaiser, T.F. Sharbel, J. Kearsley, and K.R. McAllister. 1997. Cryptic species of spotted frogs, Rana pretiosa complex, in western North America. Copeia 1997:1-8.

Greene, E. 1999. Abundance and habitat associations of Washington ground squirrels in North-Central Oregon. M.S. Thesis, Oregon State University, Corvallis, OR. 59 pp.

Hayes, M.P. and M.R. Jennings. 1986. Decline of ranid frog species in western North America: are bullfrogs responsible? J. Herpetology 20:490-509.

Kahn, R., L. Fox, P Horner, B. Giddings, and C. Roy. 1997. Conservation assessment and conservation strategy for swift fox in the United States. 54 pp.

Luce, B., and F. Lindzey. 1996. Annual Report of the Swift Fox Conservation Team.

Pilliod, D., C.R, Peterson, P. Ritson. 1996. Impacts of introduced fish on spotted frog populations in high mountain lakes of central Idaho. A summary of the conference on declining and sensitive amphibians in the Rocky Mountains and Pacific Northwest Idaho, Herpetological Society and U.S. Fish and Wildlife Service, Snake River Basin Office Report, Boise, Idaho.

Quade, C. 1994. Status of Washington ground squirrels on the Boardman Naval Weapons Systems Training Facility: evaluation of monitoring methods, distribution, abundance, and seasonal activity patterns. Unpublished.

Roy, C. 1998. Swift Fox Conservation Team Annual Report.

Schmitt, G. 2000. Swift Fox Conservation Team Annual Report.

Thompson, H.B. 1913. Description of a new subspecies of Rana pretiosa from Nevada. Proceedings of the Biological Society of Washington 26:53-56.

Authority

This notice of review is published under the authority of the Endangered Species Act (16 U.S.C. 1531 et seq.).

Dated: December 8, 2000.
Jamie Rappaport Clark,
Director, Fish and Wildlife Service.

Table 1.—Petitioned Candidates (Animal and Plant)
[*denotes change in Listing Priority Number since October 25, 1999 review]
Status: Category | Status: Priority | Lead region | Scientific name | Family | Common name | Historic range
Mammals
C | 3 | 1 | Emballonura semicaudata | Emballonuridae | Bat, sheath-tailed (Aguijan, American Samoa population) | U.S.A. (AS, GU, MP (Aguijan)).
C | *2 | 1 | Spermophilus washingtoni | Sciuridae | Washington ground squirrel | U.S.A. (OR, WA).
Removed | N/A | 6 | Vulpes velox | Canidae | Fox, swift (U.S. population) | U.S.A. (CO, IA, KS, MN, MT, ND, NE, NM, OK, SD, TX, WY), Canada.
Birds
C | 3 | 1 | Oceanodroma castro | Hydrobatidae | Storm-petrel, band-rumped (=Harcourt's) (Hawaii population) | U.S.A. (HI).
C | 8 | 2 | Tympanuchus pallidicinctus | Phasianidae | Lesser prairie chicken | U.S.A (CO, KS, NM, OK, TX).
Reptiles
C | 5 | 2 | Graptemys caglei | Emydidae | Turtle, Cagle's map | U.S.A. (TX.)
Amphibians
C | 5 | 1 | Ambystoma californiense | Ambystomatidae | Salamander, California tiger | U.S.A. (CA).
C | *3 | 1 | Rana luteiventris (formerly incl. In R. pretiosa) | Ranidae | Columbia spotted frog (Great Basis population) | U.S.A. (ID, NV, OR).
C | *2 | 1 | Rana pretoisa | Ranidae | Frog, Oregon spotted (formerly spotted frog (W. Coast population)) | U.S.A. (CA, OR WA), Canada.
C | 3 | 6 | Bufo boreas boreas | Bufonidae | Toad, boreal (Southern Rocky Mtns. population) | U.S.A. (CO, MN, WY).
Fish
C | 9 | 6 | Thymallus arcticus | Salmonidae | Grayling, Arctic (Upper Missouri R. fluvial population) | U.S.A. (MT, WY).
C | 2 | 2 | Gila intermedia | Cyprinidae | Chub, Gila | U.S.A. (AZ, MN), Mexico.
C | 2 | 6 | Macryhbopsis meeki | Cyprinidae | Chub, sicklefin | U.S.A. (AR, IA, IL, KS, KY, LA, MO, MS, MT, NE, ND, SD, TN).
C | 2 | 6 | Macryhbopsis gelida | Cyrpinidae | Chub, sturgeon | U.S.A. (AR, IA, IL, KS, KY, LA, MO, MS, MT, NE, ND, SD, TN, WY).
Snails
C | 8 | 2 | Pyrgulopsis (=Fontelicella) chupaderae | Hydrobiidae | Springsnail, Chupadera | U.S.A. (NM).
C | 8 | 2 | Pyrgulopsis (=Fontelicella) gilae | Hydrobiidae | Springsnail, Gila | U.S.A. (NM).
C | 2 | 2 | Tryonia kosteri | Hydrobiidae | Snail, Koster's tyronia | U.S.A. (NM).
C | 11 | 2 | Pyrgulopsis (=Fontelicella) thermalis | Hydrobiidae | Springsnail, New Mexico | U.S.A. (NM).
C | 2 | 2 | Assiminea pecos | Assununeidae | Pecos assiminea snail | U.S.A. (NM, TX, and Mexico).
C | 2 | 2 | Pyrgulopsis (=Fontelicella) roswellensis | Hydrobiidae | Roswell springsnail | U.S.A. (NM).
Insects
C | 9 | 6 | Cicindela limbata albissima | Cicindelidae | Coral Pink Sand Dunes tiger beetle | U.S.A. (UT).
Plants
C | 3 | 1 | Chorizanthe parryi var. fernandina | Polygonaceae | San Fernando Valley Spineflower

[FR Doc. 01-440 Filed 1-5-01; 8:45 am]

BILLING CODE 4310-55-U